DEPARTMENT OF ENERGY

Federal Energy Regulatory Commission

Combined Notice of Filings #2

Take notice that the Commission received the following electric rate filings:

Docket Numbers: ER17-424-002.

Applicants: Footprint Power Salem Harbor Development.

Description: Notice of Non-Material Change in Status of Footprint Power Salem Harbor Development LP.

Filed Date: 2/27/17.

Accession Number: 20170227-5077.

Comments Due: 5 p.m. ET 3/20/17.

Docket Numbers: ER17-764-001; ER17-765-001; ER17-766-001; ER17-767-001; ER17-768-001; ER17-769-001; ER11-2175-001; ER12-224-002; ER11-3188-001; ER12-225-002; ER12-2301-001; ER10-1750-002.

Applicants: Stream Ohio Gas & Electric, LLC, Stream Energy Columbia, LLC, Stream Energy Connecticut, LLC, Stream Energy Delaware, LLC, Stream Energy Illinois, LLC, Stream Energy Indiana, LLC, Stream Energy Maryland, LLC, Stream Energy Massachusetts, LLC, Stream Energy New Jersey, LLC, Stream Energy New York, LLC, Stream Energy Pennsylvania, LLC, SGE Energy Sourcing, LLC.

Description: Non-Material Change in Status of Stream Ohio Gas & Electric, LLC, et. al.

Filed Date: 2/27/17.

Accession Number: 20170227-5054.

Comments Due: 5 p.m. ET 3/20/17.

Docket Numbers: ER17-823-001.

Applicants: Luz Solar Partners Ltd., IV.

Description: Tariff Amendment: Amendment to Luz Solar Partners Ltd., IV Application for Market-Based Rates to be effective 1/31/2017.

Filed Date: 2/27/17.

Accession Number: 20170227-5086.

Comments Due: 5 p.m. ET 3/20/17.

Docket Numbers: ER17-1031-000.

Applicants: Emera Energy Services Subsidiary No. 6 LLC.

Description: Request for Waiver and Shortened Comment Period of Emera Energy Services Subsidiary No. 6 LLC.

Filed Date: 2/23/17.

Accession Number: 20170223-5217.

Comments Due: 5 p.m. ET 3/16/17.

Docket Numbers: ER17-1041-000.

Applicants: PJM Interconnection, L.L.C.

Description: § 205(d) Rate Filing: Original Service Agreement No. 4630; Queue No. AB2-024 to be effective 1/26/2017.

Filed Date: 2/27/17.

Accession Number: 20170227-5083.

Comments Due: 5 p.m. ET 3/20/17.

Docket Numbers: ER17-1042-000.

Applicants: Duke Energy Carolinas, LLC.

Description: § 205(d) Rate Filing: DEC-Central Electric Revised RS No. 336 to be effective 1/1/2016.

Filed Date: 2/27/17.

Accession Number: 20170227-5084.

Comments Due: 5 p.m. ET 3/20/17.

Docket Numbers: ER17-1043-000.

Applicants: PJM Interconnection, L.L.C.

Description: § 205(d) Rate Filing: Original Service Agreement No. 4631; Queue No. AB2-025 to be effective 1/26/2017.

Filed Date: 2/27/17.

Accession Number: 20170227-5087.

Comments Due: 5 p.m. ET 3/20/17.

Docket Numbers: ER17-1044-000.

Applicants: NorthWestern Corporation.

Description: § 205(d) Rate Filing: SA 804—Agreement with Montana DOT re Fox Farm Road to be effective 5/1/2017.

Filed Date: 2/27/17.

Accession Number: 20170227-5131.

Comments Due: 5 p.m. ET 3/20/17.

Docket Numbers: ER17-1045-000.

Applicants: PJM Interconnection, L.L.C.

Description: § 205(d) Rate Filing: Queue Position AB2-026, Original Service Agreement No. 4643 to be effective 1/26/2017.

Filed Date: 2/27/17.

Accession Number: 20170227-5149.

Comments Due: 5 p.m. ET 3/20/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 27, 2017.
Nathaniel J. Davis, Sr.,
Deputy Secretary.

[FR Doc. 2017-04219 Filed 3-3-17; 8:45 am]

BILLING CODE 6717-01-P